DEPARTMENT OF LABOR

Employment and Training Administration

20 CFR Part 655

RIN 1205-AB36

Post-Adjudication Audits of H-2B Petitions in All Occupations Other Than Excepted Occupations in the United States; Re-Opening and Extension of Comment Period

AGENCIES: Employment and Training Administration, Labor.

ACTION: Proposed rule; reopening and extension of comment period.

SUMMARY: This document informs the public that the comment period for the Notice of Proposed Rulemaking for Post-Adjudication Audits of H-2B Petitions in All Occupations Other Than Excepted Occupations in the United States is re-opened and extended.

DATES: The comment period for the notice of proposed rulemaking published January 27, 2005 (70 FR 3993), has been extended until April 8, 2005.

ADDRESSES: You may submit comments, identified by Regulatory Information Number (RIN) 1205-AB36, by any of the following methods:

• Federal eRulemaking Portal: http://www.regulations.gov. Follow the Web site instructions for submitting comments.

• E-mail: Comments may be submitted by e-mail to H2B.Comments@dol.gov. Include RIN 1205-AB36 in the subject line of the message.

• U.S. Mail: Submit written comments to the Assistant Secretary, Employment and Training Administration, U.S. Department of Labor, 200 Constitution Avenue, NW., Room C-4312, Washington, DC 20210, Attention: William Carlson, Chief, Division of Foreign Labor Certification. Because of security measures, mail directed to Washington, DC, is sometimes delayed. We will only consider comments postmarked by the U.S. Postal Service or other delivery service on or before the deadline for comments.

Instructions: All submissions received must include the RIN 1205-AB36 for this rulemaking. Receipt of submissions will not be acknowledged because DOL continues to experience occasional delays in receiving postal mail in the Washington, DC, area; commenters using mail are encouraged to submit any comments early.

Comments will be available for public inspection during normal business hours at the address listed above for mailed comments. Persons who need assistance to review the comments will be provided with appropriate aids such as readers or print magnifiers. Copies of this proposed rule may be obtained in alternative formats (e.g., large print, Braille, audiotape, or disk) upon request. To schedule an appointment to review the comments and/or to obtain the proposed rule in an alternative format, contact the Division of Foreign Labor Certification at (202) 693-3010 (this is not a toll-free number).

FOR FURTHER INFORMATION CONTACT: William Carlson, Chief, Division of Foreign Labor Certification, Employment and Training Administration, 200 Constitution Avenue, NW., Room C-4312, Washington, DC 20210, telephone: (202) 693-3010 (this is not a toll-free number).

SUPPLEMENTARY INFORMATION: An H-2B nonimmigrant is admitted temporarily to the United States to perform temporary nonagricultural labor or services. On January 27, 2005, the Department of Labor's Employment and Training Administration (DOL or ETA) and the Department of Homeland Security (DHS) simultaneously published in the Federal Register proposed rules to change the procedures for the issuance of H-2B visas. 70 FR 3984 and 3993. Under DOL's proposed rule, H-2B petitions filed with DHS, with the exception of workers in logging, the entertainment industry, or professional athletics, will require employers to satisfy specific attestations concerning labor market issues. These attestations have been developed by the DOL and are included in DOL's proposed rule and incorporated in the DHS proposed regulation. In addition, under the proposed rule, the DOL will receive information on petitions that have been approved and received final adjudication from the DHS. The DOL will be conducting post-adjudication audits of attestations submitted in support of selected approved H-2B petitions received from the DHS. Given the complexity of the proposed rule and the intense level of interest, the comment period is being re-opened and extended.

DOL published its notice of proposed rulemaking in the Federal Register of January 27, 2005 (FR Doc. 05-1222), at 70 FR 3993. The notice invited interested persons to submit written comments on the proposed rule on or before February 28, 2005. This document re-opens and extends the comment period through April 8, 2005.

Signed in Washington, DC, this 3rd day of March 2005.
Emily Stover DeRocco,
Assistant Secretary, Employment and Training Administration.

[FR Doc. 05-4534 Filed 3-8-05; 8:45 am]

BILLING CODE 4510-30-P